DEPARTMENT OF JUSTICE

Notice of Lodging of Consent Decree Under the Clean Air Act

Under 28 CFR 50.7, notice is hereby given that on June 21, 2006, a proposed Consent Decree in United States v. S.D. Warren Company d/b/a/ Sappi Fine Paper North America, Civil Action No. 1:06-CV-437 (W.D. Mich.) was lodged with the United States District Court for the Western District of Michigan.

The Consent Decree addresses alleged violations of the Clean Air Act, 42 U.S.C. 7401-7671q, at a kraft pulp mill in Muskegon, Michigan that is owned and operated by S.D. Warren Company d/b/a/ Sappi Fine Paper North America (the “Defendant”). More specifically, the United States alleges that the Defendant failed to comply with multiple Clean Air Act requirements applicable to the recovery furnace at the Muskegon Mill before the Defendant deactivated that recovery furnace in August 2005.

The proposed Consent Decree between the United States and the Defendant would require the Defendant to; (1) Pay a $586,106 civil penalty for alleged past violations of the Clean Air Act, (2) comply fully with Clean Air Act requirements applicable to the Muskegon Mill recovery furnace if the Defendant reactivates the recovery furnace; and (3) report to the U.S. Environmental, Protection Agency on the status of the recovery furnace.

The Department of Justice will receive comments relating to the Consent Decree for a period of thirty (30) days from the date of this publication. Comments should be addressed to the Assistant Attorney General, Environment and Natural Resources Division, P.O. Box 7611, U.S. Department of Justice, Washington, DC 20044-7611, and should refer to United States v. S.D. Warren Company d/b/a Sappi Fine Paper North America, Civil Action No. 1:06-CV-437 (W.D. Mich.) and D.J. Ref. No. 90-5-2-1-08442.

The Consent Decree may be examined at: (1) The offices of the United States Attorney, 330 Ionia Avenue, NW., Suite 501, Grand Rapids, Michigan (contact Michael Shiparski (616-456-2404)); and (2) the offices of the U.S. Environmental Protection Agency, Region 5, 77 West Jackson Boulevard, 14th Floor, Chicago, Illinois (contact Cynthia King (312-886-6831)). During the public comment period, the Consent Decree may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. 202-514-0097, phone confirmation number 202-514-1547. In requesting a copy from the Consent Decree Library, please enclose a check in the amount of $5.50 (22 pages at 25 cents per page reproduction cost) payable to the U.S. Treasury.

William D. Brighton,
Assistant Chief, Environmental Enforcement Section, Environment and Natural Resources Division.

[FR Doc. 06-5765 Filed 6-27-06; 8:45 am]

BILLING CODE 4410-15-M